DEPARTMENT OF ENERGY

Federal Energy Regulatory Commission

[Docket No. EC02-31-000, et al.]

Pacific Gas and Electric Company, et al.; Electric Rate and Corporate Filings

April 15, 2004.

The following filings have been made with the Commission. The filings are listed in ascending order within each docket classification.

1. Pacific Gas and Electric Company, PG&E Corporation, On Behalf of Its Subsidiaries, Electric Generation LLC, ETrans LLC and GTrans LLC

[Docket Nos. EC02-31-000, EL02-36-000, and CP02-38-000]

Take notice that on April 13, 2004, Pacific Gas and Electric Company (PG&E) and PG&E Corporation, on behalf of its subsidiaries Electric Generation LLC, ETrans LLC and GTrans LLC hreby filed a Notice of Withdrawal stating that they want to withdraw the application previously filed in these dockets and to terminate the present proceedings.

Comment Date: May 4, 2004.

2. Calpine Energy Services Holdings, Inc., Utility Contract Funding II, LLC, Morgan Stanley Capital Group Inc.

[Docket No. EC04-94-000]

Take notice that on April 13, 2004, Calpine Energy Services Holdings, Inc., Utility Contract Funding II, LLC, and Morgan Stanley Capital Group Inc. tendered for filing a joint application under section 203 of the Federal Power Act for approval of the disposition of jurisdictional facilities and acquisition of the security of a public utility in connection with the restructuring of certain existing power sales agreements.

Comment Date: May 4, 2004.

3. North American Electric Reliability Council

[Docket No. ER00-1666-000]

Take notice that on April 2, 2004, North American Electric Reliability Council (NERC) submitted for filing its intent to test a revision to its Transmission Line Loading Relief procedures on four Alliant West flowgates. NERC states that the test period will be from June 1, 2004 to September 30, 2004.

Comment Date: April 23, 2004.

4. West Penn Power Company

[Docket No. ER02-136-002]

Take notice that on January 7, 2002, West Penn Power Company, d/b/a Allegheny Power, filed an Addendum to its Electric Service Agreement with Allegheny Electric Cooperative with an effective date of December 19, 2001 in accordance with the Commission's Order issued in Docket No. ER02-123-000, 97 FERC ¶61,274.

Comment Date: April 26, 2004.

5. Pacific Gas and Electric Company, PG&E Corporation, on Behalf of Its Subsidiaries, Electric Generation LLC, ETrans LLC and GTrans LLC,

[Docket No. ES02-17-000]

Take notice that on April 13, 2004, Pacific Gas and Electric Company (PG&E) and PG&E Corporation, on behalf of its subsidiaries Electric Generation LLC, ETrans LLC and GTrans LLC hereby filed a Notice of Withdrawal, that they want to withdraw the application previously filed in these dockets and terminate the present proceedings.

Comment Date: May 4, 2004.

6. Golden Spread Electric Cooperative, Inc.

[Docket No. ES04-18-000]

Take notice that on April, 2, 2004, Golden Spread Electric Cooperative, Inc. (Golden Spread) submitted an application pursuant to section 204 of the Federal Power Act requesting that the Commission authorize: (1) An increase to Golden Spread's current authorization to issue securities in the form of short-term and intermediate-term debt from $160 to $240 million; (2) issuance of new long-term debt in an amount not to exceed $150 million and; (3) Golden Spread's entrance into a Continuing Guarantee of performance, in favor of AEP Texas Central Company, in connection with the assignment of Golden Spread to Oklaunion Electric Generating Cooperative, Inc. of its obligations under a Purchase and Sale Agreement.

Golden Spread also requests a waiver from the Commission's competitive bidding and negotiated placement requirements at 18 CFR 34.2.

Comment Date: April 29, 2004.

7. Nevada Power Company

[Docket No. TX04-2-000]

Take notice that on April 12, 2004, Nevada Power Company (Nevada Power) filed with the Commission an application requesting that the Commission order it to provide transmission services pursuant to section 211 of the Federal Power Act (FPA). Nevada Power requests that the Commission order it to provide transmission services to all transmission customers identified in the application. Nevada Power states that this order is necessary to preserve the tax-exempt status of Nevada Power's local furnishing bonds. Nevada Power states that it agrees to waive its rights to a request for service under section 213(a) of the FPA and to the issuance of a proposed order under section 212(c) of the FPA.

Comment Date: April 27, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-905 Filed 4-21-04; 8:45 a.m.]

BILLING CODE 6717-01-P